FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011707-017.

Agreement Name: Gulf/South America Discussion Agreement.

Parties: BBC Chartering Carriers GmbH & Co. KG; Seaboard Marine Ltd.; and Zeamarine Carrier GmbH.

Filing Party: Wayne Rohde; Cozen O'Connor.

Synopsis: The amendment deletes Industrial Maritime Carriers, L.L.C. as a party to the Agreement.

Proposed Effective Date: 11/15/2019.

Location: https://www2.fmc.gov/FMC.Agreements.Web/Public/AgreementHistory/684.

Agreement No.: 010099-067.

Agreement Name: International Council of Containership Operators.

Parties: CMA CGM S.A.; COSCO Shipping Co., Ltd.; Crowley Liner Services, Inc.; Evergreen Line Joint Service Agreement; Hapag-Lloyd AG; Hyundai Merchant Marine Co., Ltd.; Maersk A/S; Mediterranean Shipping Company S.A.; Orient Overseas Container Line Limited; Pacific International Lines (PTE) Ltd.; Wan Hai Lines Ltd.; Yang Ming Marine Transport Corporation; and ZIM Integrated Shipping Services Ltd.

Filing Party: John Longstreth; K&L Gates.

Synopsis: The amendment changes the name of Maersk Line A/S to Maersk A/S.

Proposed Effective Date: 11/15/2019.

Location: https://www2.fmc.gov/FMC.Agreements.Web/Public/AgreementHistory/1032.

Agreement No.: 012460-004.

Agreement Name: COSCO Shipping/PIL/WHL Vessel Sharing and Slot Charter Agreement.

Parties: COSCO Shipping Lines Co., Ltd.; Pacific International Lines (PTE) Ltd.; Wan Hai Lines Ltd.; and Wan Hail Lines (Singapore) PTE Ltd.

Filing Party: Eric Jeffrey; Nixon Peabody.

Synopsis: The amendment expands the geographic scope and updates the shared strings and the slot exchanges among the Parties.

Proposed Effective Date: 11/20/2019.

Location: https://www2.fmc.gov/FMC.Agreements.Web/Public/AgreementHistory/1948.

Agreement No.: 012460-005.

Agreement Name: COSCO Shipping/PIL/WHL Vessel Sharing and Slot Charter Agreement.

Parties: COSCO Shipping Lines Co., Ltd.; Pacific International Lines (PTE) Ltd.; Wan Hai Lines Ltd.; and Wan Hail Lines (Singapore) PTE Ltd.

Filing Party: Eric Jeffrey; Nixon Peabody.

Synopsis: The amendment expands the geographic scope to include export cargo to Singapore and Sri Lanka.

Proposed Effective Date: 1/4/2020.

Location: https://www2.fmc.gov/FMC.Agreements.Web/Public/AgreementHistory/1948.

Agreement No.: 012439-004.

Agreement Name: THE Alliance Agreement.

Parties: Hapag-Lloyd AG and Hapag-Lloyd USA, LLC (acting as a single party); Hyundai Merchant Marine Co., Ltd.; Ocean Network Express Pte. Ltd.; and Yang Ming Marine Transport Corp., Yang Ming (Singapore) Pte. Ltd. and Yang Ming (UK) Ltd. (acting as a single party).

Filing Party: Josh Stein, Cozen O'Connor.

Synopsis: The Amendment adds Hyundai Merchant Marine Co., Ltd. as a party to the Agreement, makes conforming changes to other provisions of the Agreement, and extends the term of the Agreement through April 1, 2030. It also adds Yang Ming (Singapore) Pte. Ltd. as a party (acting together with Yang Ming Marine Transport Corp. and Yang Ming (UK) Ltd. as one party under the Agreement).

Proposed Effective Date: 1/5/2020.

Location: https://www2.fmc.gov/FMC.Agreements.Web/Public/AgreementHistory/1912.

Dated: November 22, 2019.
Rachel E. Dickon,
Secretary.

[FR Doc. 2019-25806 Filed 11-26-19; 8:45 am]

BILLING CODE 6731-AA-P